DEPARTMENT OF COMMERCE

International Trade Administration

Export Trade Certificate of Review

ACTION: Notice of Issuance of an Amended Export Trade Certificate of Review, Application No. 87-15A04.

SUMMARY: The Department of Commerce has issued an amendment to the Export Trade Certificate of Review granted originally to The Association for Manufacturing Technology (“AMT”) on May 19, 1987. Notice of issuance of the Certificate was published in the Federal Register on May 22, 1987 (52 FR 19371).

FOR FURTHER INFORMATION CONTACT: Vanessa M. Bachman, Acting Director, Office of Export Trading Company Affairs, International Trade Administration, at telephone (202) 482-5131 (this is not a toll-free number) or at E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2000).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate: Export Trade Certificate of Review No. 87-00004, was issued to The Association for Manufacturing Technology on May 19, 1987 (52 FR 19371, May 22, 1987) and previously amended on December 11, 1987 (52 FR 48454, December 22, 1987); January 3, 1989 (54 FR 837, January 10, 1989); April 20, 1989 (54 FR 19427, May 5, 1989); May 31, 1989 (54 FR 24931, June 12, 1989); May 29, 1990 (55 FR 23576, June 11, 1990); June 7, 1991 (56 FR 28140, June 19, 1991); November 27, 1991 (56 FR 63932, December 6, 1991); July 20, 1992 (57 FR 33319, July 28, 1992); May 10, 1994 (59 FR 25614, May 17, 1994); December 1, 1995 (61 FR 13152, March 26, 1996); October 11, 1996 (61 FR 55616, October 28, 1996); May 6, 1998 (63 FR 31738, June 10, 1998); November 10, 1998 (63 FR 63909, November 17, 1998); and October 29, 1999 (64 FR 61276, November 10, 1999).

AMT's Export Trade Certificate of Review has been amended to:

1. Add each of the following companies as a new “Member” of the Certificate within the meaning of section 325.2(1) of the Regulations (15 C.F.R. 325.2(1)): Merritech, Inc., Saginaw, Michigan; Mega Manufacturing, Inc., for the activities of its Piranha Division, Hutchinson, Kansas; New Nine, Inc., d/b/a GWI Engineering, Grand Rapids, Michigan; New Monarch Machine Tool Company, Cortland, New York; W.A. Whitney Co., Rockford, Illinois, (controlling entity: Esterline Technologies, Bellevue, Washington); Evana Automation, Inc., Evansville, Indiana, (controlling entity: Phillips Service Industries, Inc., Livonia, Michigan); Compact Manufacturing Systems, Santa Ana, California; ABB Flexible Automation, Inc., New Berlin, Wisconsin, (controlling entity: Asea Brown Boveri Inc., Norwalk, Connecticut); and Welduction Corporation, Novi, Michigan, (controlling entity: INDUCTOHEAT, Inc., Madison Heights, Michigan);

2. Delete the following companies as “Members” of the Certificate: Bramac Machine Tool Co.; Wysong & Miles Company; DeVlieg-Bullard Services Group, Inc.; Defiance Machine & Tool Co.; Dyna Mechtronics Inc.; and Easco Sparcatron; and

3. Change the two existing Members' names as follows: “Process Control Automation, Inc.” is changed to “Hayes-Lemmerz Process Control Automation, Inc.” and “Giddings & Lewis, Inc.” is changed to “Gilman Engineering & Manufacturing Co.”

A copy of the amended certificate will be kept in the International Trade Administration's Freedom of Information Records Inspection Facility, Room 4102, U.S. Department of Commerce, 14th Street and Constitution Avenue, NW., Washington, DC 20230.

Dated: March 16, 2001.
Vanessa M. Bachman,
Acting Director, Office of Export Trading Company Affairs.

[FR Doc. 01-7013 Filed 3-20-01; 8:45 am]

BILLING CODE 3510-DR-P